DEPARTMENT OF LABOR

Office of the Secretary

Submission for OMB Review: Comment Request

July 19, 2007.

The Department of Labor has submitted the following public information collection requests (ICR) to the Office of Management and Budget (OMB) for review and approval in accordance with the Paperwork Reduction Act of 1995 (Pub. L. 104-13, 44 U.S.C. chapter 35). Copies of these ICRs, with applicable supporting documentation; including inter alia a description of the likely respondents, proposed frequency of response, and estimated total burden may be obtained from the RegInfo.gov Web site at http://www.reginfo.gov/public/do/PRAMain or by contacting Darrin King on 202-693-4129 (this is not a toll-free number) / e-mail: king.darrin@dol.gov.

Comments should be sent to Office of Information and Regulatory Affairs, Attn: John Kraemer, OMB Desk Officer for the Occupational Safety and Health Administration (OSHA), Office of Management and Budget, 725 17th Street, NW., Room 10235, Washington, DC 20503, Telephone: 202-395-4816 / Fax: 202-395-6974 (these are not a toll-free numbers), E-mail: John_Kraemer@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

AGENCY: Department of Labor / Occupational Safety and Health Administration.

Type of Review: Extension without change of currently approved collection.

Title: Crawler, Locomotive, and Truck Cranes Standard (29 CFR 1910.180).

OMB Control Number: 1218-0221.

Estimated Number of Respondents: 20,000.

Estimated Total Burden Hours: 174,062.

Affected Public: Private sector: Business or other for-profits.

Description: The information collection requirements contained in 29 CFR 1910.180 require that monthly inspections be performed on cranes and running ropes and that a certification record be prepared. Ropes which have been idle for a month or more are required to undergo a thorough inspection and a certification record must be generated. The purpose of each of these requirements is to prevent employees from using unsafe cranes and ropes, thereby, reducing their risk of death or serious injury caused by a crane or rope failure during material handling.

AGENCY: Department of Labor / Occupational Safety and Health Administration.

Type of Review: Extension without change of currently approved collection.

Title: Overhead and Gantry Cranes Standard (29 CFR 1910.179).

OMB Control Number: 1218-0224.

Estimated Number of Respondents: 35,000.

Estimated Total Burden Hours: 360,144.

Affected Public: Private sector: Business or other for-profits.

Description: The purpose of the information collection requirements in 29 CFR 1910.179 is to prevent death and serious injuries among employees by ensuring that all critical components of the crane are inspected and tested on a periodic basis and that the crane is not used to lift loads beyond its rated capacity.

AGENCY: Department of Labor / Occupational Safety and Health Administration.

Type of Review: Extension without change of currently approved collection.

Title: Standard on Mechanical Power Presses (29 CFR 1910.217(e)(1)(i) and (e)(1)(ii)).

OMB Control Number: 1218-0229.

Estimated Number of Respondents: 295,000.

Estimated Total Burden Hours: 1,373,054.

Affected Public: Private sector: Business or other for-profits.

Description: The inspection and certification records required by the Mechanical Power Presses Standard are intended to ensure that mechanical power presses are in safe operating condition, and that all safety devices are working properly. The failure of these safety devices could cause serious injury or death to an employee.

Darrin A. King,
Acting Departmental Clearance Officer.

[FR Doc. E7-14349 Filed 7-27-07; 8:45 am]

BILLING CODE 4510-26-P